ENVIRONMENTAL PROTECTION AGENCY

[FRL-6915-4]

Prevention of Significant Deterioration of Air Quality (PSD) Applicability Determination.

AGENCY: Environmental Protection Agency.

ACTION: Notice of applicability determination.

SUMMARY: This notice announces that on May 23, 2000, the Environmental Protection Agency (EPA) Region 5, issued an applicability determination for Detroit Edison Company's Monroe Power Plant pursuant to the Prevention of Significant Deterioration of Air Quality (PSD) requirements under the Clean Air Act (Act) and regulations codified at 40 CFR 52.21.

DATES: Region 5 initially issued the above determination on May 23, 2000. The Administrator affirmed the determination on August 30, 2000.

FOR FURTHER INFORMATION CONTACT: Laura Hartman, Environmental Engineer, Permits and Grants Section, Air Programs Branch (AR-18J), Air and Radiation Division, United States Environmental Protection Agency, Region 5, 77 West Jackson Boulevard, Chicago, Illinois 60604, (312) 353-5703, hartman.laura@epa.gov.

Anyone who wishes to review this determination and related materials can obtain this determination at http://www.epa.gov/region5/air/permits/permits.htm or http://www.epa.gov/region07/programs/artd/air/nsr/nsrpg.htm.

SUPPLEMENTARY INFORMATION: This supplementary information section is organized as follows:

A. What Action is EPA Taking?

B. What did EPA Determine?

A. What Action Is EPA Taking?

We are notifying the public that EPA has made a provisional determination regarding the applicability of the PSD regulations to the proposed replacement and reconfiguration of the high pressure section of two steam turbines at Detroit Edison's Monroe Power Plant, referred to as the Dense Pack project. Specifically, Detroit Edison Company requested EPA to determine: (1) Whether the Dense Pack project is a routine or non-routine change under the PSD regulations, and (2) if the project is not routine, whether it will require a PSD permit.

B. What Did EPA Determine?

Considering the nature, extent, purpose, frequency, and cost of the work, as well as other relevant factors, EPA found that the proposed Dense Pack project would not be routine maintenance, repair, and replacement. Consequently, EPA determined that the project would not be exempt from the PSD program on that basis.

However, the Dense Pack project must undergo PSD review only if the project would result in a significant net emissions increase of regulated pollutants. Under the applicable PSD regulatory provisions commonly known as the “WEPCO rule”, see 57 FR 32314 (July 21, 1992), in determining if a physical change will result in a significant emissions increase at an electric utility plant, a company may use an “actual” to “representative actual annual emissions” test for emissions from the electric utility steam generating unit. Under this test, the company must calculate baseline emissions and project future emissions after the change. Because EPA has no information to dispute Detroit Edison's contention that actual emissions will not significantly increase at the modified units as a result of the Dense Pack project, and as long as the State permitting agency concurs with Detroit Edison's projection that emissions will not increase as a result of the project, Detroit Edison may proceed at any time with the project without first obtaining a PSD permit. EPA's determination is provisional because Detroit Edison has not provided a calculation of baseline emissions or projected future emissions to the State permitting agency for evaluation as is called for under the WEPCO rule. The company should do so before starting construction.

If, after the project is completed and the affected units resume regular operation, data reflecting actual emissions show a significant emissions increase resulting from the project, PSD would apply at that time.

C. How May Interested Parties Seek Judicial Review of this Action?

Interested parties with standing may seek judicial review of this decision under Section 307(b)(1) of the Act only by the filing of a petition for review in the United States Court of Appeals for the appropriate regional circuit within 60 days from the date on which this notice is published in the Federal Register. Under Section 307(b)(2) of the Act, this determination shall not be subject to later judicial review in civil or criminal proceedings for enforcement.

Dated: November 21, 2000.
Francis X. Lyons,
Regional Administrator, Region 5.

[FR Doc. 00-31617 Filed 12-11-00; 8:45 am]

BILLING CODE 6560-50-P